DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2007, there were nine applications approved. This notice also includes information on two applications, approved in September 2007, inadvertently left off the September 2007 notice. Additionally, 14 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Applications Approved

Public Agency: City of Phoenix, Arizona.

Application Number: 07-08-C-00-PHX.

Application Type: Impose and use a PFC.

PFC Level: $4.50.

Total PFC Revenue Approved in This Decision: $202,200,000.

Earliest Charge Effective Date: August 1, 2008.

Estimated Charge Expiration Date: August 1, 2010.

Class of Air Carriers Not Required To Collect PFC's

(1) Non-scheduled, on-demand air carriers filing FAA Form 1800-31; (2) commuters or small certificated air carriers filing Department of Transportation Form 298—C T1 or E1 with less than 7,500 annual enplanements at Phoenix Sky Harbor International Airport (PHX); (3) large certificated air carriers filing Research and Special Programs Administration (RSPA) Form T-100 with less than 7,500 annual enplanements at PHX; and (4) foreign air carriers filing RSPA Form T-100(f) with less than 7,500 annual enplanements at PHX.

Determination: Approved. Based on information contained in the public agency's application, the FAA has determined that each approved class accounts for less than 1 percent of the total annual enplanements at PHX.

Brief description of projects approved for collection and use at a $4.50 PFC Level:

Taxiway improvements.

Noise mitigation program.

Security improvements.

Brief Description of projects approved for collection and use at a $3.00 PFC level:

Improved terminal facilities.

Passenger information and paging system.

Decision Date: September 27, 2007.

FOR FURTHER INFORMATION CONTACT: Kimchi Hoang, Los Angeles Airports District Office, (310) 725-3617.

Public Agency: City of Chicago Department of Aviation, Chicago, Illinois.

Application Number: 07-20-C-00-ORD.

Application Type: Impose and use a PFC.

PFC Level: $3.00.

Total PFC Revenue Approved in This Decision: $53,983,000.

Earliest Charge Effective Date: May 1, 2024.

Estimated Charge Expiration Date: October 1, 2024.

Class of Air Carriers Not Required To Collect PFC's: Air taxi.

Determination: Approved. Based on information contained in the public agency's application, the FAA has determined that the approved class accounts for less than 1 percent of the total annual enplanements at Chicago O'Hare International Airport.

Brief Description of Projects Partially Approved for Collection and Use at a $3.00 PFC Level:

Airport access road improvements.

Determination: After reviewing the information provided by the public agency, the FAA determined that portions of the roadways included in the project description are ineligible for PFC funding.

Airport transit system vehicle acquisition and system improvements.

Determination: After reviewing the materials provided by the public agency, the FAA determined there was a mathematical error in the cost estimate. Due to this error, the approved amount is less than the requested amount.

Decision Date: September 28, 2007.

FOR FURTHER INFORMATION CONTACT: Amy Hanson, Chicago Airports District Office, (847) 294-7354.

Public Agency: City of San Antonio, Texas.

Application Number: 07-05-C-00-SAT.

Application Type: Impose and use a PFC.

PFC Level: $4.50.

Total PFC Revenue Approved in This Decision: $24,265,453.

Earliest Charge Effective Date: March 1, 2018.

Estimated Charge Expiration Date: March 1, 2019.

Class of Air Carriers Not Required To Collect PFC's:

Part 135 on demand/air taxi operators filing FAA Form 1800-31.

Determination: Approved. Based on information contained in the public agency's application, the FAA has determined that the approved class accounts for less than 1 percent of the total annual enplanements at San Antonio International Airport.

Brief Description of Projects Approved for Collection and Use at a $3.00 PFC Level:

Runway 21 extension (1,000 feet) and associated development.

Taxiway R extension.

Brief Description of Projects Approved for Collection and Use At a $5.50 PFC Level:

Terminal 1 modifications.

Runway safety action team improvements.

Decision Date: October 4, 2007.

FOR FURTHER INFORMATION CONTACT: Guillermo Villalobos, Texas Airports District Office, (817) 222-5657.

Public Agency: County of Okaloosa, Valparaiso, Florida.

Application Number: 07-03-C-00-VPS.

Application Type: Impose and use a PFC.

PFC Level: $4.50.

Total PFC Revenue Approved in This Decision: $1,143,526.

Earliest Charge Effective Date: December 1, 2019.

Estimated Charge Expiration Date: July 1, 2020.

Class of Air Carriers Not Required To Collect PFC's:

Air taxi/commercial operators.

Determination: Approved. Based on information contained in the public agency's application, the FAA has determined that the approved class accounts for less than 1 percent of the total annual enplanements at Okaloosa Regional Airport (VPS).

Brief Description of Projects Approved for Collection at VPS and Use at VPS:

East access, site development, and site utilities.

Construct cargo/maintenance building.

Expand terminal apron.

Relocate fuel farm.

Design terminal baggage and gate expansion.

Install backup emergency generator.

PFC program and administration costs.

Brief Description of Project Approved for Collection at VPS and Use at VPS, CEW, and Destin-Fort Walton Beach Airport:

Master Plan Updates.

Brief Description of Project Partially Approved for Collection at VPS and Use at Crestview/Bob Sikes Airport (CEW):

Rehabilitate runway 17/35 (phases 1, 2, and 3).

Determination: The FAA determined that only 6,500 feet of the runway length is eligible. Therefore, the approved amount is less than that requested by the public agency.

Decision Date: October 5, 2007.

FOR FURTHER INFORMATION CONTACT: Susan Moore, Orlando airports District Office, (407) 812-6331 extension 120.

Public Agency: Palm Beach Board of County Commissioners, West Palm Beach, Florida.

Application Number: 07-09-C-00-PBI.

Application Type: Impose and use a PFC.

PFC Level: $4.50.

Total PFC Revenue Approved in This Decision: $22,283,317.

Charge Effective Date: July 1, 2008.

Estimated Charge Expiration Date: October 1, 2010.

Class of Air Carriers Not Required to Collect PFC's:

Air taxi/commercial operators filing FAA Form 1800-31.

Determination: Approved. Based on information contained in the public agency's application, the FAA has determined that the approved class accounts for less than 1 percent of the total annual enplanements at Palm Beach International Airport.

Brief Description of Projects Approved for Collection and Use at a $4.50 PFC Level:

Extension of taxiway L.

Extension of taxiway F.

Replace two fire rescue vehicles.

Navigational aid relocation study.

Brief Description of Project Approved for Collection for Future Use at a $4.50 PFC Level:

Land acquisition.

Decision Date: October 9, 2007.

FOR FURTHER INFORMATION CONTACT: Susan Moore, Orlando Airports District Office, (407) 812-6331, extension 120.

Public Agency: County of Jefferson, Beaumont, Texas.

Application Number: 07-06-C-00-BPT.

Application Type: Impose and use a PFC.

PFC Level: $4.50.

Total PFC Revenue Approved in This Decision: $525,062.

Charge Effective Date: November 1, 2008.

Estimated Charge Expiration Date: February 1, 2012.

Class of Air Carriers Not Required to Collect PFC's:

None.

Brief Description of Projects Approved for Collection and Use:

Airfield equipment.

Apron F rehabilitation.

Airfield pavement joint rehabilitation.

Runway 12/30 rehabilitation (phase 1).

Airfield drainage system improvements.

Airfield electrical upgrades.

PFC application and administration fees.

Pavement maintenance plan.

Decision Date: October 9, 2007.

FOR FURTHER INFORMATION CONTACT: Ben Guttery, Texas Airports Development Office, (817) 222-5614.

Public Agency: Toledo-Lucas County Port Authority, Toledo, Ohio.

Application Number: 07-05-C-00-TOL.

Application Type: Impose and use a PFC.

PFC Level: $4.50.

Total PFC Revenue Approved In This Decision: $1,492,000.

Charge Effective Date: December 1, 2007.

Estimated Charge Expiration Date: December 1, 2010.

Class of Air Carriers Not Required To Collect PFC's: Non-scheduled/on-demand air carriers filing FAA Form 1800-31.

Determination: Approved. Based on information contained in the public agency's application, the FAA has determined that the approved class accounts for less than 1 percent of the total annual enplanements at Toledo Express Airport.

Brief Description of Projects Approved for Collection and Use:

Terminal improvements and reimbursement.

Rehabilitation of B-6, B-9, B-11, and B-1 design and construction.

Relocation of taxiway November design.

Rehabilitate runway 16/34 design.

Conduct airfield electrical master plan.

Acquire snow removal equipment.

Purchase of a vacuum truck/spill prevention.

Cargo deicing recovery system.

Decision Date: October 11, 2007.

FOR FURTHER INFORMATION CONTACT: Irene Porter, Detroit Airports District Office, (734) 229-2915.

Public Agency: Kent County Department of Aeronautics, Grand Rapids, Michigan.

Application Number: 07-04-C-00-GRR.

Application Type: Impose and use a PFC.

PFC Level: $4.50.

Total PFC Revenue Approved In This Decision: $5,525.000.

Charge Effective Date: March 1, 2032.

Estimated Charge Expiration Date: January 1, 2033.

Class of Air Carriers Not Required To Collect PFC's: Non-scheduled/on-demand air carriers filing FAA Form 1800-31.

Determination: Approved. Based on information contained in the public agency's application, the FAA has determined that the approved class accounts for less than 1 percent of the total annual enplanements at Gerald R. Ford International Airport.

Brief Description of Projects Approved For Collection and Use:

Passenger loading bridge replacement.

Public address system replacement.

Brief Description of Project Partially Approved For Collection and Use:

Radio system replacement.

Determination: The FAA determined that the public agency consulted on a different amount than the amount requested. Therefore, the FAA's approval is limited to the amount discussed in the air carrier consultation and public notice.

Decision Date: October 18, 2007.

FOR FURTHER INFORMATION CONTACT: Jason Watt, Detroit Airports District Office, (734) 229-2906.

Public Agency: Kent County Department of Aeronautics, Grand Rapids, Michigan.

Application Number: 07-05-U-00-GRR.

Application Type: Use PFC revenue.

PFC Level: $4.50

Total PFC Revenue To Be Used In This Decision: $2,129,985.

Charge Effective Date: October 1, 2016.

Estimated Charge Expiration Date: April 1, 2018.

Class of Air Carriers Not Required To Collect PFC's: No change from previous decision.

Brief Description of Project Approved For Use: Terminal B concourse expansion.

Decision Date: October 18, 2007.

FOR FURTHER INFORMATION CONTACT: Jason Watt, Detroit Airports District Office, (734) 229-2906.

Public Agency: Coos County Airport District, North Bend, Oregon.

Application Number: 07-08-C-00-OTH.

Application Type: Impose and use a PFC.

PFC Level: $4.50.

Total PFC Revenue Approved In This Decision: $403,360.

Earliest Charge Effective Date: January 1, 2011.

Estimated Charge Expiration Date: July 1, 2014.

Class of Air Carriers Not Required To Collect PFC's: Non-scheduled air taxi/commercial operators filing FAA Form 1800-31.

Determination: Approved. Based on information contained in the public agency's application, the FAA has determined that the approved class accounts for less than 1 percent of the total annual enplanements at Southwest Oregon Regional Airport.

Brief Description of Project Approved for Collection and Use: Relocation of taxiway C.

Decision Date: October 19, 2007.

FOR FURTHER INFORMATION CONTACT: Trang Tran, Seattle Airports District Office, (425) 227-1662.

Public Agency: Los Angeles County World Airports, Los Angeles, California

Application Number: 07-06-C-00-LAX.

Application Type: Impose and use a PFC.

PFC Level: $4.50.

Total PFC Revenue Approved In This Decision: $85,000,000.

Earliest Charge Effective Date: October 1, 2009.

Estimated Charge Expiration Date: July 1, 2010.

Class of Air Carriers Not Required To Collect PFC's: All non-scheduled/on-demand air taxi/commercial operators.

Determination: Approved. Based on information contained in the public agency's application, the FAA has determined that the approved class accounts for less than 1 percent of the total annual enplanements at Los Angeles International Airport.

Brief Description of Project Approved for Collection and Use at a $4.50 PFC Level:

Los Angeles residential soundproofing—phase II.

Noise mitigation program in other local jurisdictions—phase II.

Decision Date: October 19, 2007.

FOR FURTHER INFORMATION CONTACT: Ruben Cabalbag, Los Angeles Airports District Office, (310) 735-3630.

Amendments to PFC Approvals
Amendment No. city, state | Amendment approved date | Original approved net PFC revenue | Amended approved net PFC revenue | Original estimated charge exp. date | Amended estimated charge exp. date
98-03-C-03-TLH, Tallahassee, FL | 09/27/07 | $6,848,783 | $3,770,045 | 10/01/02 | 10/01/02
93-01-C-04-GEG, Spokane, WA | 10/12/07 | 12,594,838 | 9,283,006 | 04/01/98 | 04/01/98
93-01-C-04-TPA, Tampa, FL | 10/15/07 | 133,682,614 | 145,316,784 | 04/01/01 | 04/01/01
94-02-U-03-TPA, Tampa, FL | 10/15/07 | NA | NA | 04/01/01 | 04/01/01
97-03-C-01-TPA, Tampa, FL | 10/16/07 | 25,540,952 | 25,460,336 | 06/01/02 | 06/01/02
02-05-C-01-TPA, Tampa, FL | 10/17/07 | 135,782,200 | 152,489,574 | 07/01/06 | 07/01/06
01-05-C-03-OTH, North Bend, OR | 10/19/07 | 541,602 | 638,079 | 08/01/05 | 07/01/06
04-09-C-02-CRW, Charleston, WV | 10/19/07 | 6,982,402 | 7,609,184 | 03/01/11 | 08/01/11
03-06-C-01-TPA, Tampa, FL | 10/23/07 | 298,115,400 | 323,388,300 | 09/01/13 | 03/01/14
98-03-C-02-EUG, Eugene, OR | 10/23/07 | 1,577,459 | 1,577,459 | 06/01/01 | 06/01/01
04-10-C-02-MKE, Milwaukee, WI | 10/23/07 | 11,775,601 | 12,025,601 | 04/01/18 | 04/01/18
06-13-C-01-MKE, Milwaukee, WI | 10/23/07 | 47,306,855 | 51,947,402 | 01/01/24 | 06/01/24
96-05-C-09-ORD, Chicago, IL | 10/24/07 | 467,714,130 | 488,140,368 | 04/01/08 | 06/01/08
03-04-C-02-PIH, Pocatello, ID | 10/25/07 | 497,218 | 294,313 | 04/01/08 | 04/01/08

Issued in Washington, DC, on November 6, 2007.
Joe Hebert,
Manager, Financial Analysis and Passenger Facility Charge Branch.

[FR Doc. 07-5645 Filed 11-14-07; 8:45 am]

BILLING CODE 4910-13-M